FEDERAL COMMUNICATIONS COMMISSION

47 CFR Part 4

[PS Docket No. 21-346; PS Docket No. 15-80; ET Docket No. 04-35; FR ID 60757]

Resilient Networks; Disruptions to Communications; Disruptions to Communications

AGENCY: Federal Communications Commission.

ACTION: Proposed rule; extension of comment and reply comment period.

SUMMARY: In this document, the Federal Communications Commission extends the comment and reply comment period of the notice of the proposed rulemaking (NPRM) in PS Docket Nos. 21-346 and 15-80 and ET Docket No. 04-35 that was released on October 1, 2021.

DATES: The comment period and reply comment period for the proposed rule published at 86 FR 61103 (November 5, 2021) are extended. The deadline for filing comments is extended to December 16, 2021, and the deadline for filing reply comments is extended to January 14, 2022.

ADDRESSES: You may submit comments, identified by PS Docket Nos. 21-346 and 15-80 and ET Docket No. 04-35, by any of the following methods:

• Electronic Filers: Comments may be filed electronically using the internet by accessing the Electronic Comment Filing System (ECFS): https://www.fcc.gov/ ecfs.

• Paper Filers: Parties who choose to file by paper must file an original and one copy of each filing. If more than one docket or rulemaking number appears in the caption of this proceeding, filers must submit two additional copies for each additional docket or rulemaking number.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19.

• During the time the Commission's building is closed to the general public and until further notice, if more than one docket or rulemaking number appears in the caption of a proceeding, paper filers need not submit two additional copies for each additional docket or rulemaking number; an original and one copy are sufficient.

People With Disabilities: To request materials in accessible formats for people with disabilities (braille, large print, electronic files, audio format), send an email to fcc504@fcc.gov or call the Consumer & Governmental Affairs Bureau at 202-418-0530 (voice), 202-418-0432 (tty).

FOR FURTHER INFORMATION CONTACT: Saswat Misra of the Public Safety and Homeland Security Bureau, Cybersecurity and Communications Reliability Division, at (202) 418-0944 or Saswat.Misra@fcc.gov.

SUPPLEMENTARY INFORMATION: This is a summary of the Federal Communication Commission's (Commission's) Order in PS Docket Nos. 21-346 and 15-80 and ET Docket No. 04-35; DA 21-1483, adopted and released on November 30, 2021. For the full text of this document, visit FCC's website at https://www.fcc.gov/document/pshsb-extends-comment-deadlines-resiliency-proceeding or obtain access via the FCC's ECFS website at http://www.fcc.gov/ ecfs. (Documents will be available electronically in ASCII, Microsoft Word, and/or Adobe Acrobat.) Alternative formats are available for people with disabilities (braille, large print, electronic files, audio format), by sending an email to fcc504@fcc.gov or calling the Commission's Consumer and Governmental Affairs Bureau at (202) 418-0530 (voice), (202) 418-0432 (TTY).

I. Synopsis

1. The Public Safety and Homeland Security Bureau (PSHSB) grants a Motion filed by the Edison Electric Institute (EEI) seeking an extension of 10 days to file comments and reply comments in response to the notice of proposed rulemaking in PS Docket Nos. 21-346 and 15-80 and ET Docket No. 04-35 that was released on October 1, 2021 (NPRM), and published in the Federal Register on November 5, 2021. See Motion of Edison Electric Institute for Extension of Time, PS Docket Nos. 21-346 and 15-80, ET Docket No. 04-35 (filed Nov. 19, 2021) (Motion). For the reasons stated below, PSHSB finds that EEI's request is warranted and thus extends the comment and reply comment dates to December 16, 2021 and January 14, 2022, respectively.

2. On September 30, 2021, the Commission adopted the NPRM seeking comment on proposed rules to improve communications reliability during disasters. 86 FR 61103 (Nov. 5, 2021) (summarizing the NPRM). The NPRM seeks comment on the wireless industry's disaster response framework, the Commission's network outage reporting rules, and strategies to reduce the impact of power outages on communications networks. The summary of the NPRM, published in the Federal Register on November 5, 2021, indicates that comments must be filed on or before December 6, 2021, and reply comments must be filed on or before January 4, 2022. Id.

3. On November 19, 2021, EEI filed the Motion to request a 10-day extension of the comment and reply comment filing deadlines, to December 16, 2021, and January 14, 2022, respectively. EEI states that these deadlines should be extended “to ensure that there is sufficient time to conduct consultations with respective member companies to prepare reasoned comments and reply comments that meaningfully address the broad range of issues presented by the NPRM.” EEI notes that November 25th was the Thanksgiving holiday and that that the Christmas and New Year's holidays are on December 25th and January 1st, respectively, and that “this is a period when many organizations are closed and vacations are taken.” EEI states that, without an extension, it would be challenging to “build industry consensus before submitting comments.” EEI contends that an extension of 10 days will not result in any meaningful delay in the proceeding and will result in more focused and better reasoned comments. EEI represents that CTIA, NCTA—The internet and Television Association, and USTelecom—The Broadband Association support the Motion and that the National Association of Broadcasters has no objections to it. No opposition to the Motion has been filed.

4. The Commission grants a 10-day extension of time to file comments and reply comments in this proceeding. As set forth in § 1.46 of the Commission's rules, 47 CFR 1.46, the Commission does not routinely grant extensions of time for filing comments. In this case, however, the extension is unopposed, limited to only ten days, and will allow commenters sufficient time to file meaningful comment and reply comments given the intervening holidays. The Commission therefore grants EEI's unopposed Motion and extends the comment and reply comment deadlines to December 16, 2021, and January 14, 2022, respectively.

II. Ordering Clauses

5. Accordingly, it is ordered that, pursuant to section 4(i)-(j) of the Communications Act of 1934, as amended, 47 U.S.C. 154(i)-(j), and §§ 0.204, 0.392, and 1.46 of the Commission's rules, 47 CFR 0.204, 0.392, 1.46, the Motion for Extension of Time filed by EEI is granted.

6. It is further ordered that the date to file comments and reply comments in response to the NPRM are extended to December 16, 2021, and January 14, 2022, respectively.

Federal Communications Commission.
David Furth,
Deputy Chief, Public Safety and Homeland Security Bureau.

[FR Doc. 2021-26587 Filed 12-6-21; 11:15 am]

BILLING CODE 6712-01-P